DEPARTMENT OF DEFENSE

Department of the Army

Reserve Officers' Training Corps (ROTC) Program Subcommittee

AGENCY: U.S. Army Cadet Command, DoD.

ACTION: Notice of meeting.

SUMMARY: In Accordance with section 10(a)(2) of the Federal Advisory Committee Act (U.S.C., App. 2) announcement is made of the following Committee meeting:

Name of Committee: Reserve Officers' Training Corps (ROTC) Program Subcommittee.

Place: Pentagon, Washington, DC.

Date(s): July 15-17, 2001.

Time: 8 a.m.-5 p.m., July 16, 2001; 8 A.M.-Noon, July 17, 2001.

Proposed Agenda: Review and discuss status of Army ROTC since the February 2001 meeting held in Hampton, Virginia.

FOR FURTHER INFORMATION CONTACT: Commander, HQ U.S. Army Cadet Command, ATTN: ATCC-TT (MAJ Hewitt), Fort Monroe, VA 23651. Telephone number is (757) 788-5456.

SUPPLEMENTARY INFORMATION: This meeting is open to the public. Any interested person may attend, appear before, or file statements with the committee.

Luz D. Ortiz,
Army Federal Register Liaison Officer.

[FR Doc. 01-15735 Filed 6-21-01; 8:45 am]

BILLING CODE 3710-08-M